DEPARTMENT OF JUSTICE

Antitrust Division

Notice Pursuant to the National Cooperative Research and Production Act of 1993-American Society of Radiologic Technologists

Notice is hereby given that, on December 17, 2004, pursuant to section 6(a) of the National Cooperative Research and Production Act of 1993, 15 U.S.C. 4301 et seq. (the “Act”), American Society of Radiologic Technologists (“ASRT”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Society of Radiologic Technologists, Albuquerque, NM. The nature and scope of ASRT's standards development activities are: Amending the practice standards for radiologic technologists in the fields of radiography, mammography, computed tomography, magnetic resonance imaging, diagnostic sonography, nuclear medicine, cardiovascular-interventional radiography and radiation therapy. The standards amendment activities will cover defining the scopes of practice in these areas, and delineate practice standards criteria for clinical performance, quality performance, and professional performance. ASRT's standards also include development of new standards for cardio-interventional radiography, vascular-interventional radiography, bone densitometry as well as the practice of radiologist assistants.

Dorothy B. Fountain,
Deputy Director of Operations, Antitrust Division.

[FR Doc. 05-1971 Filed 2-1-05; 8:45 am]

BILLING CODE 4410-11-M